DEPARTMENT OF THE INTERIOR

Bureau of Land Management

[OR-931-6320 HAG3-0056]

Notice of Availability of Draft Integrated Pest Management Program Environmental Impact Statement for the Provolt and Sprague Seed Orchards

AGENCY: Bureau of Land Management, Interior.

ACTION: Notice of Availability of the Draft Integrated Pest Management Environmental Impact Statement (EIS) for the Provolt and Sprague Seed Orchards.

SUMMARY: In accordance with Section 202 of the National Environmental Policy Act of 1969, a Draft Integrated Pest Management EIS has been prepared for the Bureau of Land Management's Provolt and Sprague Seed Orchards in the Bureau's Medford District. The Draft EIS describes and analyzes options for integrated pest management to control the insect, weed, animal, and disease problems at the orchards and to maintain healthy, vigorous crop trees for the production of seed and other vegetative materials used for reforestation and a variety of land management actions. Preparation of this EIS precedes a final decision regarding the selection of an integrated pest management alternative at Provolt and Sprague Seed Orchards.

DATES: Written comments on the Draft EIS will be accepted for 60 days from the date the Environmental Protection Agency publishes the Notice of Availability in the Federal Register. Written comments may also be presented at public meetings/open houses and will be announced at least 15 days in advance through public notices, media news releases, and/or mailings.

ADDRESSES: Written comments on the document should be addressed to: Mr. Harvey Koester, Manager Provolt and Sprague Seed Orchards, 3040 Biddle Road, Medford, OR 97504, or by fax to 541-618-2400, or by e-mail to Medford_SPOEIS_Mail@or.blm.gov. Copies will be available at Medford and Grants Pass public libraries located in Jackson and Josephine Counties, OR, and on the BLM Medford District Web site at http://www.or.blm.gov/medford/planning/medpest_eis_main.html. Copies will also be available from the Medford District Office, 3040 Biddle Road, Medford, OR 97504; 541-618-2200. Public reading copies will be available for review at the following BLM locations: BLM Oregon State Office, Portland, OR; and BLM Office of Public Affairs, Main Interior Building, Washington, DC. Background information and maps used in developing the EIS are available at the Medford District Office and the Oregon State Office in Portland.

Pursuant to 7 CFR part 1, subpart B, § 1.27, all written and electronic submissions in response to this notice, public scoping letters, and draft and final Environmental Impact Statements will be made available for public inspection at the Medford District office (3040 Biddle Road, Medford, OR) during regular hours (7:45 a.m. to 4:30 p.m., Monday through Friday, except holidays) including the submitter's name and address, unless the submitter specifically requests confidentiality. If you wish to withhold your name or address from public review or from disclosure under the Freedom of Information Act, you must state this prominently at the beginning of your written comment. Such requests will be honored to the extent allowed by law. All submissions from organizations or businesses, submitted on official letterheads, and from individuals identifying themselves as representatives or officials of organization or businesses, will be made available for public inspection in their entirety.

FOR FURTHER INFORMATION CONTACT: Mr. Harvey Koester, Manager Provolt and Sprague Seed Orchards, 3040 Biddle Road, Medford, OR 97504, 541-618-2401, Medford_SPOEIS_Mail@or.blm.gov.

SUPPLEMENTARY INFORMATION: The draft EIS analyzes three action alternatives and the No Action alternative to manage pests at Provolt and Sprague Seed Orchards. The alternatives can be summarized as follows:

Alternative A—Maximum Production Integrated Pest Management. Pests would be managed using all identified biological, chemical, prescribed fire, cultural and other pest control methods.

Alternative B—Integrated Pest Management with Environmental Protection Emphasis. This is the preferred alternative. Pests would be managed using all of the methods in Alternative A, with special restrictions to protect workers' health and safety and the environment. The restrictions are based on the results of the human health and ecological risk assessment, scoping comments, and anticipated consultation issues with the Fish and Wildlife Service and the National Marine Fisheries Service under the Endangered Species Act.

Alternative C—Non-Chemical Pest Management. Pests would be managed using only the biological, prescribed fire, cultural, and other non-chemical pesticide methods listed under Alternative A. No chemical methods would be permitted.

Alternative D—No Action: Continuation of Current Management Approach. The current management system uses all non-chemical pest control practices at the seed orchard, as well as the use of limited chemicals on a specific case-by-case basis. All biological, prescribed fire, cultural and other non-chemical pesticide methods available for use. When a specific need is identified for a chemical pesticide, the action would be reviewed to determine whether it is encompassed by an existing NEPA document, or whether an environmental assessment or EIS is required.

Public participation has occurred throughout the NEPA process. Two Notices of Intent were filed in the Federal Register (FR) on March 26, 1999 (64 FR 14747) and March 29, 2001 (66 FR 17192). Open houses, mail-outs, and site visits also have been conducted to solicit comments and ideas. All comments presented throughout the process have been considered in developing the Draft EIS.

Mary Smelcer,
Acting District Manager.

[FR Doc. 03-14286 Filed 6-12-03; 8:45 am]

BILLING CODE 4310-33-P